NATIONAL AERONAUTICS AND SPACE ADMINISTRATION

[Notice: (23-117)]

NASA Advisory Council; Aeronautics Committee; Meeting

AGENCY: National Aeronautics and Space Administration.

ACTION: Notice of meeting.

SUMMARY: In accordance with the Federal Advisory Committee Act, the National Aeronautics and Space Administration (NASA) announces a meeting of the Aeronautics Committee of the NASA Advisory Council (NAC). This Committee reports to the NAC. This meeting will be held for the purpose of soliciting, from the aeronautics community and other persons, research and technical information relevant to program planning.

DATES: Wednesday, November 29, 2023, 1:00 p.m.-5:30 p.m. ET; and Thursday, November 30, 2023, 9:00 a.m.-12:00 p.m. ET.

FOR FURTHER INFORMATION CONTACT: Ms. Irma Rodriguez, Designated Federal Officer, Aeronautics Research Mission Directorate, NASA Headquarters, Washington, DC 20546, (202) 358-0984, or irma.c.rodriguez@nasa.gov.

SUPPLEMENTARY INFORMATION: This meeting will be virtual for the public and available online. Dial-in audio teleconference and webcast details to watch the meeting remotely will be available on the NAC Aeronautics Committee website at https://www.nasa.gov/nasa-advisory-council-aeronautics-committee/. Enter the meeting as a guest and type your name and affiliation. Note: If dialing in, please “mute” your telephone. The agenda for the meeting includes the following topics:

—Verification & Validation Complex Systems Support

—Aeronautics Research Mission Directorate (ARMD) Diversity, Equity, Inclusion and Accessibility (DEIA) Plan, Efforts and Priorities

—Sky for All

—2022 Committee Findings and Recommendations Response

—Advanced Capabilities for Emergency Response Operations (ACERO)

It is imperative that the meeting be held on these dates to the scheduling priorities of the key participants.

Patricia Rausch,
Advisory Committee Management Officer, National Aeronautics and Space Administration.

[FR Doc. 2023-24956 Filed 11-9-23; 8:45 am]

BILLING CODE 7510-13-P